DEPARTMENT OF ENERGY

Federal Energy Regulatory Commission

Combined Notice of Filings

Take notice that the Commission has received the following Natural Gas Pipeline Rate and Refund Report filings:

Filings Instituting Proceedings

Docket Numbers: PR24-28-000.

Applicants: Enterprise Texas Pipeline LLC.

Description: 284.123 Rate Filing: SOC Update 2024 to be effective 4/1/2024.

Filed Date: 12/21/23.

Accession Number: 20231221-5081.

Comment Date: 5 p.m. ET 1/11/24.

Docket Numbers: PR24-29-000.

Applicants: Acadian Gas Pipeline System.

Description: 284.123 Rate Filing: SOC Update 2024 to be effective 4/1/2024.

Filed Date: 12/21/23.

Accession Number: 20231221-5094.

Comment Date: 5 p.m. ET 1/11/24.

Docket Numbers: PR24-30-000.

Applicants: Enterprise Intrastate LLC.

Description: 284.123 Rate Filing: SOC Update 2024 to be effective 4/1/2024.

Filed Date: 12/21/23.

Accession Number: 20231221-5098.

Comment Date: 5 p.m. ET 1/11/24.

Docket Numbers: RP24-255-000.

Applicants: Dogwood Energy LLC, Evergy Missouri West, Inc., Evergy Kansas Central, Inc.

Description: Joint Petition for Limited Waiver of Capacity Release Regulations, et. al. of Dogwood Energy LLC, et. al.

Filed Date: 12/18/23.

Accession Number: 20231218-5303.

Comment Date: 5 p.m. ET 1/2/24.

Docket Numbers: RP24-258-000.

Applicants: Alliance Pipeline L.P.

Description: 4(d) Rate Filing: Negotiated Rates—Various Jan 1 2024 Releases to be effective 1/1/2024.

Filed Date: 12/20/23.

Accession Number: 20231220-5251.

Comment Date: 5 p.m. ET 1/2/24.

Docket Numbers: RP24-259-000.

Applicants: El Paso Natural Gas Company, L.L.C.

Description: 4(d) Rate Filing: Negotiated Rate Agreement Update (EOG 2024) to be effective 2/1/2024.

Filed Date: 12/21/23.

Accession Number: 20231221-5145.

Comment Date: 5 p.m. ET 1/2/24.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: PR24-11-001.

Applicants: Southern California Gas Company.

Description: 284.123(g) Rate Filing: Offshore Delivery Service Rate Revision August 2023 to be effective 8/1/2023.

Filed Date: 12/20/23.

Accession Number: 20231220-5187.

Comment Date: 5 p.m. ET 12/27/23.

Docket Numbers: RP23-917-000.

Applicants: Viking Gas Transmission Company.

Description: Report Filing: Notice of Filing to Implement EPCRA to be effective N/A.

Filed Date: 12/21/23.

Accession Number: 20231221-5192.

Comment Date: 5 p.m. ET 1/2/24.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: December 21, 2023.
Debbie-Anne A. Reese,
Deputy Secretary.

[FR Doc. 2023-28696 Filed 12-27-23; 8:45 am]

BILLING CODE 6717-01-P